DEPARTMENT OF COMMERCE

National Oceanic and Atmospheric Administration

50 CFR Part 679

[Docket No. 180831813-9170-02; RTID 0648-XY057]

Fisheries of the Exclusive Economic Zone Off Alaska; Pacific Cod in the Gulf of Alaska

AGENCY: National Marine Fisheries Service (NMFS), National Oceanic and Atmospheric Administration (NOAA), Commerce.

ACTION: Temporary rule; closure.

SUMMARY: NMFS is prohibiting directed fishing for Pacific cod in the Gulf of Alaska (GOA). This action is necessary because a biological assessment of stock condition for Pacific cod in the GOA projects that the spawning biomass will be below 20 percent of the projected unfished spawning biomass during 2020.

DATES: Effective 0001 hours, Alaska local time (A.l.t.), January 1, 2020, through 2400 hours, A.l.t., December 31, 2020.

FOR FURTHER INFORMATION CONTACT: Mary Furuness, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679. Regulations governing sideboard protections for GOA groundfish fisheries appear at subpart B of 50 CFR part 680.

The most recent biological assessment available of the stock condition for Pacific cod in the GOA has determined that the spawning biomass will be below 20 percent of the projected unfished spawning biomass during 2020 (https://www.fisheries.noaa.gov/alaska/population-assessments/north-pacific-groundfish-stock-assessment-and-fishery-evaluation).

In accordance with § 679.20(d)(4), the Administrator, Alaska Region, NMFS (Regional Administrator) has determined that a biological assessment of stock condition for Pacific cod in the GOA projects that the spawning biomass will be below 20 percent of the projected unfished spawning biomass during 2020. Consequently, NMFS is prohibiting directed fishing for Pacific cod in the GOA. While this closure is effective the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the directed fishing closure of Pacific cod in the GOA. NMFS was unable to publish a notice providing time for public comment because the most recent, relevant data only became available as of December 6, 2019.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 17, 2019.
Jennifer M. Wallace,
Acting Director, Office of Sustainable Fisheries, National Marine Fisheries Service.

[FR Doc. 2019-27567 Filed 12-20-19; 8:45 am]

BILLING CODE 3510-22-P